DEPARTMENT OF LABOR

Employment and Training Administration

[TA-W-42,321]

Boxboard Packaging Company, a Division of Welch Packaging Group, Worwalk, OH; Notice of Termination of Investigation

Pursuant to section 221 of the Trade Act of 1974, an investigation was initiated on November 1, 2002, in response to a worker petition dated September 30, 2002, filed by the Norwalk Printing Specialties and Paper Products Union, Local 731, on behalf of workers at Boxboard Packaging Company, a Division of Welch Packaging Group, Norwalk, Ohio.

The petitioner has requested that the petition be withdrawn. Consequently, further investigation in this case would serve no purpose, and the investigation has been terminated.

Signed in Washington, DC, this 4th day of November, 2002.
Richard Church,
Certifying Officer, Division of Trade Adjustment Assistance.

[FR Doc. 02-29643 Filed 11-20-02; 8:45 am]

BILLING CODE 4510-30-P